SMALL BUSINESS ADMINISTRATION

Notice Seeking Exemption Under section 312 of the Small Business Investment Act, Conflicts of Interest

Notice is hereby given that Zero Stage Capital SBIC VII, L.P. (“ZSCVII”), 101 Main Street, 17th Floor, Cambridge, Massachusetts 02142, a Federal Licensee under the Small Business Investment Act of 1958, as amended (“the Act”), in connection with the financing of a small concern, has sought an exemption under section 312 of the Act and section 107.730, Financings which Constitute Conflicts of Interest, of the Small Business Administration (“SBA”) rules and regulations (13 CFR 107.730 (2002)). ZSCVII proposes to provide equity financing to Worldwinner.com, Inc. (“Worldwinner”), 313 Washington Street, Suite 308, Newton, Massachusetts 02458. The financing is contemplated for marketing and working capital.

The financing is brought within the purview of Section 107.730(a)(1) of the Regulations because Zero Stage Capital VI, L.P., an Associate ZSCVII, currently owns greater than 10 percent of Worldwinner, and therefore Worldwinner is considered an Associate of ZSCVII as defined in Section 107.50 of the Regulations.

Notice is hereby given that any interested person may submit written comments on the transaction to the Associate Administrator for Investment, U.S. Small Business Administration, 409 Third Street, SW., Washington, DC 20416.

Dated: May 20, 2002.
Harry Haskins,
Acting Associate Administrator for Investment.

[FR Doc. 02-13206 Filed 5-24-02; 8:45 am]

BILLING CODE 8025-01-P